CORPORATION FOR NATIONAL AND COMMUNITY SERVICE

Information Collection; Submission for OMB Review, Comment Request

AGENCY: Corporation for National and Community Service.

ACTION: Notice.

SUMMARY: The Corporation for National and Community Service (CNCS), has submitted a public information collection request (ICR) entitled National Performance Measurement Assessment for review and approval in accordance with the Paperwork Reduction Act of 1995, Public Law 104-13, (44 U.S.C. Chapter 35). Copies of this ICR, with applicable supporting documentation, may be obtained by calling the Corporation for National and Community Service, Joscelyn Silsby, at (202) 606-6772, or email to jsilsby@cns.com. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on March 16, 2012. This comment period ended May 15, 2012. No public comments were received from this Notice.

Description: CNCS is seeking approval for two surveys and an interview protocol that will be used to assess the National Performance Measurement Pilot. The purpose of this data collection is for CNCS to understand how grantees have selected, implemented, and reported program performance using pilot measures developed for programs receiving AmeriCorps grants in 2010 and 2011. CNCS will use the results of this assessment to inform the ongoing development of AmeriCorps grantee measures as well as new performance measurement efforts within other CNCS programs. Completion of this information collection is considered completely voluntary and is not required to be considered for or to obtain grant funding support from any CNCS program.

Type of Review: New.

Agency: Corporation for National and Community Service.

Title: National Performance Measurement Assessment.

OMB Number: New.

Agency Number: None.

Affected Public: AmeriCorps State and National State Service Commissions and grantees.

Estimated Number of Total Respondents: 214.

Frequency: All respondents will receive and be asked to complete the online survey. A randomly selected sub-set of 36 respondents will be asked to participate in follow-up interviews.

Average Time Per Response: 1 hour 20 minutes.

Estimated Total Burden Hours: 303.8.

Total Burden Cost (capital/startup): N/A.

Total Burden Cost (operating/maintenance): N/A.

Dated: May 14, 2012.
Marlene Zakai,
Deputy Chief of Staff for Management.

[FR Doc. 2012-12300 Filed 5-21-12; 8:45 am]

BILLING CODE 6050-$$-P